NATIONAL SCIENCE FOUNDATION

Advisory Committee for Computer and Information Science and Engineering; Notice of Meeting

In accordance with Federal Advisory Committee Act (Pub. L. 92-463, as amended), the National Science Foundation announces the following meeting:

Name: Advisory Committee for Computer and Information Science and Engineering (#1115).

Date/Time: May 11, 2007; 1 p.m. to 4 p.m.

Place: National Science Foundation, 4201 Wilson Boulevard, Room 1120, Arlington, Virginia.

Type of Meeting: Open (Teleconference).

Contact Person: Rita Koch, National Science Foundation, 4201 Wilson Boulevard, Arlington, VA 22230, (703) 292-8900.

If you are attending the meeting and need access to the NSF, please contact the individual listed above so your name may be added to the building access list.

Purpose of Meeting: To provide advice concerning the NSF programs in computer and information science and engineering.

Agenda: Discussion of current programs, initiatives and future budget cycle.

Dated: April 24, 2007.
Susanne Bolton,
Committee Management Officer.

[FR Doc. E7-8058 Filed 4-26-07; 8:45 am]

BILLING CODE 7555-01-P